DEPARTMENT OF ENERGY

Federal Energy Regulatory Commission

Combined Notice of Filings #1

Take notice that the Commission received the following electric rate filings:

Docket Numbers: ER11-1850-007; ER11-1846-007; ER11-1847-007; ER11-1848-007; ER11-2598-010; ER13-1192-004.

Applicants: Direct Energy Business, LLC, Direct Energy Business Marketing, LLC, Direct Energy Marketing Inc., Direct Energy Services, LLC, Gateway Energy Services Corporation, Energy America, LLC.

Description: Second Supplement to June 28, 2017 Northeast Region Triennial Report of the Direct Energy Sellers.

Filed Date: 9/8/17.

Accession Number: 20170908-5132.

Comments Due: 5 p.m. ET 9/29/17.

Docket Numbers: ER17-1191-003.

Applicants: Otter Tail Power Company.

Description: Tariff Amendment: Amendment to Submit Restated Conforming Agreement—Rate Schedule No. 151 to be effective 7/30/2010.

Filed Date: 9/8/17.

Accession Number: 20170908-5054.

Comments Due: 5 p.m. ET 9/29/17.

Docket Numbers: ER17-2152-000.

Applicants: Cottonwood Wind Project, LLC.

Description: Amendment to July 26, 2017 Cottonwood Wind Project, LLC tariff filing.

Filed Date: 9/7/17.

Accession Number: 20170907-5205.

Comments Due: 5 p.m. ET 9/28/17.

Docket Numbers: ER17-2203-001.

Applicants: Arizona Public Service Company.

Description: Tariff Amendment: Service Agreement Nos. 218 and 335—Revision to be effective 7/1/2017.

Filed Date: 9/7/17.

Accession Number: 20170907-5184.

Comments Due: 5 p.m. ET 9/28/17.

Docket Numbers: ER17-2322-001.

Applicants: Nexus Energy Inc.

Description: Tariff Amendment: Nexus Energy Market-based Rate Tariff v2 to be effective 11/1/2017.

Filed Date: 9/8/17.

Accession Number: 20170908-5002.

Comments Due: 5 p.m. ET 9/29/17.

Docket Numbers: ER17-2449-000.

Applicants: Public Service Company of New Hampshire.

Description: § 205(d) Rate Filing: Rate Schedule No. IA-ES-37 Interconnection Agreement Between PSNH and Pontook to be effective 12/16/2016.

Filed Date: 9/7/17.

Accession Number: 20170907-5186.

Comments Due: 5 p.m. ET 9/28/17.

Docket Numbers: ER17-2450-000.

Applicants: PJM Interconnection, L.L.C.

Description: Tariff Cancellation: Notice of Cancellation of Service Agreement No. 3153, Queue No. W1-029 to be effective 8/22/2017.

Filed Date: 9/8/17.

Accession Number: 20170908-5093.

Comments Due: 5 p.m. ET 9/29/17.

Docket Numbers: ER17-2451-000.

Applicants: Alabama Power Company.

Description: § 205(d) Rate Filing: Camilla Solar Energy LGIA Filing to be effective 8/29/2017.

Filed Date: 9/8/17.

Accession Number: 20170908-5130.

Comments Due: 5 p.m. ET 9/29/17.

Docket Numbers: ER17-2452-000.

Applicants: Pacific Gas and Electric Company.

Description: § 205(d) Rate Filing: Amendment to Wholesale Distribution Tariff GIP, SGIA, and LGIA to be effective 9/9/2017.

Filed Date: 9/8/17.

Accession Number: 20170908-5140.

Comments Due: 5 p.m. ET 9/29/17.

Take notice that the Commission received the following electric securities filings:

Docket Numbers: ES17-55-000.

Applicants: Kentucky Utilities Company.

Description: Application under Section 204 of the Federal Power Act of Kentucky Utilities Company.

Filed Date: 9/7/17.

Accession Number: 20170907-5195.

Comments Due: 5 p.m. ET 9/28/17.

Take notice that the Commission received the following electric reliability filings:

Docket Numbers: RD17-8-000.

Applicants: North American Electric Reliability Corporation, Reliability First Corporation.

Description: Joint Petition of the North American Electric Reliability Corporation and ReliabilityFirst Corporation for Approval of Proposed Regional Reliability Standard BAL-502-RF-03.

Filed Date: 9/7/17.

Accession Number: 20170907-5201.

Comments Due: 5 p.m. ET 10/10/17.

Docket Numbers: RD17-9-000.

Applicants: North American Electric Reliability Corporation, SERC Reliability Corporation.

Description: Joint Petition of the North American Electric Reliability Corporation, et. al. for Approval of Proposed Regional Reliability Standard PRC-006-SERC-02.

Filed Date: 9/8/17.

Accession Number: 20170908-5127.

Comments Due: 5 p.m. ET 10/10/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 8, 2017.
Nathaniel J. Davis, Sr.,
Deputy Secretary.

[FR Doc. 2017-19722 Filed 9-15-17; 8:45 am]

BILLING CODE 6717-01-P